ENVIRONMENTAL PROTECTION AGENCY

[EPA-HQ-OPP-2021-0952; FRL-9458-01-OCSPP]

Clothianidin; Receipt of Application for Emergency Exemption, Solicitation of Public Comment

AGENCY: Environmental Protection Agency (EPA).

ACTION: Notice.

SUMMARY: EPA has received a specific exemption request from the Florida Department of Agriculture and Consumer Services (FDACS) to use the insecticide clothianidin (CAS No. 210-880-92-5 as a soil drench application to treat up to 125,376 acres of immature (3-5 years old) citrus trees to control the transmission of Huanglongbing (HLB) disease vectored by the Asian Citrus Psyllid (ACP). The applicant proposes a use that has been requested in 5 or more previous years. Therefore, EPA is soliciting public comment before making the decision whether or not to grant the exemption.

DATES: Comments must be received on or before February 16, 2022.

ADDRESSES: The docket for these actions, identified by docket identification (ID) number EPA-HQ-OPP-2021-0952, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide discussed in this document, compared to the general population.

II. What action is the Agency taking?

Under section 18 of the Federal Insecticide, Fungicide, and Rodenticide Act (FIFRA) (7 U.S.C. 136p), at the discretion of the EPA Administrator, a Federal or State agency may be exempted from any provision of FIFRA if the EPA Administrator determines that emergency conditions exist which require the exemption. The FDACS has requested the EPA Administrator to issue a specific exemption for the use of clothianidin as a soil drench application on immature (3-5 years old) citrus trees to control the transmission of HLB disease vectored by ACP. Information in accordance with 40 CFR part 166 was submitted as part of this request.

As part of this request, the applicant asserts that clothianidin is needed to suppress the transmission of HLB disease vectored by ACP due to the lack of available alternative pesticides and effective control practices. Without the use of this tool, Florida citrus growers are expected to experience significant economic losses due to the severity of this invasive disease and vector complex.

The Applicant proposes to make no more than two applications of clothianidin at a maximum rate of 0.4 lb. a.i./A (24.0 fl. oz per acre) per 12-month period on up to 125,376 acres of immature (3-5 years old) citrus trees grown in Florida from January 14 to October 31, 2022. A total of 50,150 lbs. of clothianidin could be used on the maximum acreage of 125,376 at the highest rate.

This notice does not constitute a decision by EPA on the application itself. The regulations governing FIFRA section 18 require publication of a notice of receipt of an application for a specific exemption proposing a use which is supported by the IR-4 program and has been requested in 5 or more previous years; and for which a complete application for registration of that use and/or a petition for tolerance for residues in or on the commodity has not been submitted to the Agency.

The FDACS submitted in 2011 a petition for tolerance to EPA that was subsequently withdrawn, and an application/petition has not been resubmitted to the Agency. The notice provides an opportunity for public comment on the application. The Agency will review and consider all comments received during the comment period in determining whether to issue the specific exemption requested by the FDACS.

Authority: 7 U.S.C. 136 et seq.

Dated: January 19, 2022.
Marietta Echeverria,
Acting Director, Registration Division, Office of Pesticide Programs.

[FR Doc. 2022-01987 Filed 1-31-22; 8:45 am]

BILLING CODE 6560-50-P